SECURITIES AND EXCHANGE COMMISSION

[File No. 500-1]

In the Matter of St. George Metals, Inc.; Order of Suspension of Trading

July 1, 2005.

It appears to the Securities and Exchange Commission that there is a lack of current and accurate information concerning the securities of St. George Metals, Inc. (Pink Sheets symbol: “SGGM”), a Nevada corporation. Questions have been raised about the adequacy of publicly available information concerning, among other things, St. George Metals' assets and liabilities, mining and other business activities, stock issuances, and corporate management. Since the fiscal year ending January 31, 2003, St. George Metals has been delinquent in its periodic filing obligations under Section 13(a) of the Securities Exchange Act of 1934.

The Commission is of the opinion that the public interest and the protection of investors require a suspension of trading in the securities of the above-listed company.

Therefore, it is ordered, pursuant to Section 12(k) of the Securities Exchange Act of 1934, that trading in the above listed company is suspended for the period from 9:30 a.m. EDT, July 1, 2005, through 11:59 p.m. EDT, on July 15, 2005.

By the Commission.
Johathan G. Katz,
Secretary.

[FR Doc. 05-13329 Filed 7-5-05; 11:48 am]

BILLING CODE 8010-01-P